DEPARTMENT OF HEALTH AND HUMAN SERVICES

Indian Health Service

Tribal Management Grant Program

Announcement Type: New Discretionary Funding Cycle for Fiscal Year 2007.

Funding Announcement Number: HHS-2007-IHS-TMP-0001.

Catalog of Federal Domestic Assistance Number: 93.228.

Key Dates: Training: Application Requirements Session: May 10-11 and June 14-15, 2006; Grantwriting Session: May 22-26, 2006; Application Deadline Date: August 4, 2006; Review Date: October 2-6, 2006; Application Notification: November 13, 2006; Earliest Anticipated Start Date: January 1, 2007.

I. Funding Opportunity Description

The Indian Health Service (IHS) announces competitive grant applications for the Tribal Management Grant (TMG) Program. This program is authorized under section 103(b)(2) and section 103(e) of the Indian Self-Determination and Education Assistance Act, Public Law 93-638, as amended. The TMG Program is described at 93.228 in the Catalog of Federal Domestic Assistance.

The TMG program is a national competitive discretionary grant program pursuant to 45 CFR part 75 and 45 CFR part 92 established to assist Federally-recognized Tribes and Tribally-sanctioned Tribal organizations in assuming all or part of existing IHS programs, services, functions, and activities (PSFA) through a Title I contract and to assist established Title I contractors and Title V compactors to further develop and improve their management capability. In addition, TMGs are available to Tribes/Tribal organizations under the authority of Public Law (Pub. L.) 93-638 section 103(e) for (1) obtaining technical assistance from providers designated by the Tribe/Tribal organization (including Tribes/Tribal organizations that operate mature contracts) for the purposes of program planning and evaluation, including the development of any management systems necessary for contract management and the development of cost allocation plans for indirect cost rates; and (2) planning, designing and evaluating Federal health programs serving the Tribe/Tribal organization, including Federal administrative functions.

Funding Priorities: The IHS has established the following funding priorities for TMG awards.

• Priority I—Any Indian Tribe that has received Federal recognition (restored, unterminated, funded, or unfunded) within the past 5 years, specifically received during or after March 2001.

• Priority II—All other eligible Federally-recognized Indian Tribes or Tribally-sanctioned Tribal organizations submitting a competing continuation application or a new application for the sole purpose of addressing audit material weaknesses. The audit material weaknesses are identified in Attachment A (Summary of Findings and Recommendations) and other attachments, if any, of the transmittal letter received from the Office of the Inspector General (OIG), National External Audit Review (NEAR) Center, Department of Health and Human Services (HHS). Please identify the weakness to be addressed by underlining the item on the Attachment A. Please refer to section III.3, “Other Requirements” for more information regarding Priority II participation.

Federally-recognized Indian Tribes or Tribally-sanctioned Tribal organizations not subject to Single Audit Act requirements must provide a financial statement identifying the Federal dollars received in the footnotes. The financial statement must also identify specific weaknesses/recommendations that will be addressed in the TMG proposal and are related to 25 Code of Federal Regulations (CFR) part 900, “Indian Self-Determination and Education Assistance Act Amendments”, subpart F—“Standards for Tribes and Tribal Organizations”.

Priority II participation is only applicable to the Health Management Structure project type. For more information see section II Eligible Project Types, Maximum Funding and Project Periods.

• Priority III—All other eligible Federally-recognized Indian Tribes or Tribal organizations submitting a competing continuation application or a new application.

The funding of approved Priority I applicants will occur before the funding of approved Priority II applicants. Priority II applicants will be funded before approved Priority III applicants. Funds will be distributed until depleted.

II. Award Information

Type of Award: Grant.

Estimated Funds Available: Subject to the availability of funds, the estimated amount available is $2,388,000 in fiscal year (FY) 2007. There will be only one funding cycle in FY 2007. Awards under this announcement are subject to the availability of funds.

Anticipated Number of Awards: An estimated 20-25 awards will be made under this program.

Project Periods: Varies from 12 months to 36 months.

Please refer to “Eligible Project Types, Maximum Funding and Project Periods” under this section for more detailed information.

Estimated Award Amount: $50,000/year-$100,000/year. Please refer to “Eligible Project Types, Maximum Funding and Project Periods” below for more detailed information.

Eligible Project Types, Maximum Funding and Project Periods: Applications may only be submitted for one project type. The TMG Program consists of four project types: (1) Feasibility study; (2) planning; (3) evaluation study; and (4) health management structure. Applications that address more than one project type will be considered ineligible and will be returned to the applicant. The maximum funding levels noted include both direct and indirect costs. Application budgets may not exceed the maximum funding level or project period identified for a project type. Applications whose budget or project period exceed the maximum funding level or project period will be considered ineligible and will not be reviewed. Please refer to section IV.5. “Funding Restrictions” for further information regarding ineligible activities.

1. Feasibility Study (Maximum Funding/Project Period: $70,000/12 Months)

A study of a specific IHS program or segment of a program to determine if Tribal management of the program is possible. The study shall present the planned approach, training and resources required to assume Tribal management of the program. The study must include the following four components:

• Health needs and health care services assessments that identify existing health care services and delivery system, program divisibility issues, health status indicators, unmet needs, volume projections and demand analysis.

• Management analysis of existing management structures, proposed management structures, implementation plans and requirements, and personnel staffing requirements and recruitment barriers.

• Financial analysis of historical trends data, financial projections and new resource requirements for program management costs and analysis of potential revenues from Federal/non-Federal sources.

• Decision statement/report that incorporates findings, conclusions and recommendations; the presentation of the study and recommendations to the governing body for Tribal determination regarding whether Tribal assumption of program(s) is desirable or warranted.

2. Planning (Maximum Funding/Project Period: $50,000/12 Months)

A collection of data to establish goals and performance measures for the operation of current health programs or anticipated PSFAs under a Title I contract. Planning will specify the design of health programs and the management systems (including appropriate policies and procedures) to accomplish the health priorities of the Tribe/Tribal organization. For example, planning could include the development of a Tribal Specific Health Plan or a Strategic Health Plan, etc. Please note: The Public Health Service urges applicants submitting strategic health plans to address specific objectives of Healthy People 2010. Interested applicants may purchase a copy of Healthy People 2010 (Summary Report in print; Stock No. 017-001-00547-9) or CD-ROM (Stock No. 107-001-00549-5) through the Superintendent of Documents, Government Printing Office, P.O. Box 371954, Pittsburgh, Pennsylvania 15250-7945, or (202) 512-1800. This information is available in electronic form at the following Web site: http://www.health.gov/healthypeople/publications/.

3. Evaluation Study (Maximum Funding/Project Period: $50,000/12 Months)

A systematic collection, analysis and interpretation of data for the purpose of determining the value of a program. The extent of the evaluation study could relate to the goals and objectives, policies and procedures or programs regarding targeted groups. The evaluation study could also be used to determine the effectiveness and efficiency of a Tribal program operation (i.e. direct services, financial management, personnel, data collection and analysis, third-party billing, etc.) as well as determine the appropriateness of new components to a Tribal program operation that will assist Tribal efforts to improve the health care delivery systems.

4. Health Management Structure (Average Funding/Project Period

$100,000/12 months; maximum funding/project period: $300,000/36 months) Implementation of systems to manage or organize PSFAs. Management structures include health department organizations, health boards, and financial management systems including systems for accounting, personnel, third-party billing, medical records, management information systems, etc. This includes the design, improvements and correction of management systems that address weaknesses identified through quality control measures, internal control reviews and audit report findings under the Office of Management and Budget (OMB) Circular No. A-133—Revised June 27, 2003, “Audits of States, Local Governments, and Non-Profit Organizations.” A copy of this circular and 25 Code of Federal Regulations (CFR) part 900, “Indian Self-Determination and Education Assistance Act Amendments”, subpart F—“Standards for Tribal or Tribal Organization Management Systems” is available in the appendix of the TMG application package. Please see section IV “Application and Submission Information” for directions about how to request a copy of the TMG application package.

III. Eligibility Information

1. Eligible Applicants

Indian Tribe or Tribal organization as defined by Public Law 93-638, Indian Self-Determination and Education Assistance Act, as amended.

Eligible applicants include Tribal organizations that operate mature contracts that are designated by a Tribe to provide technical assistance and/or training. Only one application per Tribe or Tribal organization is allowed.

2. Cost Sharing or Matching

The TMG Program does not require matching funds or cost sharing. However, in accordance with Public Law 93-638 section 103(c), the TMG funds may be used as matching shares for any other Federal grant programs that develop Tribal capabilities to contract for the administration and operation of health programs.

3. Other Requirements

The following documentation is required:

• Tribal Resolution—A resolution of the Indian Tribe served by the project must accompany the application submission. An Indian Tribe that is proposing a project affecting another Indian Tribe must include resolutions from all affected Tribes to be served. Applications by Tribal organizations will not require a specific Tribal resolution if the current Tribal resolution(s) under which they operate would encompass the proposed grant activities. If an official Tribal resolution is not available by the application deadline, a draft resolution should be submitted. However an official signed Tribal resolution must be received by the Division of Grants Operations prior to the beginning of the Objective Review (October 2-6, 2006). If an official signed resolution is not received by the close of business on September 29, 2006, the application will be considered incomplete, ineligible for review and returned to the applicant without consideration. Applicants submitting additional documentation after the initial application submission are required to ensure the information was received by the IHS by obtaining documentation confirming delivery or receipt (i.e. fax transmittal receipt, FedEx tracking, postal return receipt, etc.).

• Documentation for Priority I Participation—A copy of the Federal Register notice or letter from the Bureau of Indian Affairs verifying establishment of Federal Tribal status within the last 5 years. Date must reflect that Federal recognition was received during or after March 2001.

• Documentation for Priority II Participation—A copy of the transmittal letter and Attachment A from the OIG, NEAR Center, HHS. See “Funding Priorities” in section I for more information. If an applicant is unable to locate a copy of their most recent transmittal letter or needs assistance with audit issues, information or technical assistance may be obtained by contacting the IHS Division of Audit Resolution at (301) 443-7301, or the National External Audit Review Center help line at (816) 374-6714 ext 108. The auditor may also have the information/documentation required.

Federally-recognized Indian Tribes or Tribally-sanctioned Tribal organizations not subject to Single Audit Act requirements, must provide a financial statement identifying the Federal dollars in the footnotes. The financial statement must also identify specific weaknesses/recommendations that will be addressed in the TMG proposal and are related to 25 CFR part 900, “Indian Self-Determination and Education Assistance Act Amendments”, subpart F—“Standards for Tribes and Tribal Organizations”.

Documentation of Consortium Participation—If an Indian Tribe submitting an application is a member of a consortium, the Tribe must:

• Identify the consortium.

• Indicate if the consortium intends to submit a TMG application.

• Demonstrate that the Tribe's application does not duplicate or overlap any objectives of the consortium's application.

If a consortium is submitting an application it must:

• Identify all the consortium member Tribes.

• Identify if any of the member Tribes intend to submit a TMG application of their own.

• Demonstrate that the consortium's application does not duplicate or overlap any objectives of the other consortium members who may be submitting their own TMG application.

Please refer to sections IV.5. “Funding Restrictions” and V.2. “Review and Selection Process” for more information regarding other application submission information and/or requirements.

IV. Application and Submission Information

1. Application package may be found at http://www.Grants.gov. Information regarding the electronic application process may be obtained from either of the following persons: Ms. Patricia Spotted Horse, Office of Tribal Programs, Indian Health Service, 801 Thompson Avenue, Suite 220, Rockville, Maryland 20852. (301) 443-1104. Ms. Denise Clark, Division of Grants Operations, Indian Health Service, 801 Thompson Avenue, TMP 360, Rockville, Maryland 20852. (301) 443-5204. Ms. Michelle G. Bulls, Grants Policy Staff, Indian Health Service, 801 Thompson Avenue, TMP 625, Rockville, Maryland 20852. (301) 443-6528.

The entire application package is available at http://www.ihs.gov/NonMedicalPrograms/tmg.

2. Content and Form of Application Submission

All applications must:

• Be single-spaced.

• Be typewritten.

• Have consecutively numbered pages.

• Use black type not smaller than 12 characters per one inch.

• Contain a narrative that does not exceed 14 typed pages that includes the other submission requirements below. The 14-page narrative does not include the work plan, standard forms, Tribal resolution(s), table of contents, budget, budget justifications, multi-year narratives, multi-year budget, multi-year budget justifications, and/or other appendix items.

• Introduction and Need for Assistance.

• Project Objective(s), Approach and Results and Benefits.

• Project Evaluation.

• Organizational Capabilities and Qualifications.

Public Policy Requirements: All Federal-wide public policies apply to IHS grants with exception of Lobbying and Discrimination.

3. Submission Dates and Times

Applications must be submitted electronically through Grants.gov by close of business Friday, August 4, 2006. If technical issues arise and the applicant is unable to successfully complete the electronic application process, the applicant must contact Grants Policy Staff fifteen days prior to the application deadline. As appropriate, paper applications are due by the date referenced above. Paper applications (original and two (2) copies) shall be considered as meeting the deadline if they are received on or before the deadline date.

late applications not accepted for processing will be returned to the applicant and will not be considered for funding.

4. Intergovernmental Review

Executive Order 12372 requiring intergovernmental review is not applicable to this program.

5. Funding Restrictions

A. Pre-award costs are not allowable.

B. The available funds are inclusive of direct and indirect costs.

C. Only one grant will be awarded per applicant.

D. Ineligible Project Activities.

The TMG may not be used to support recurring operational programs or to replace existing public and private resources. Note: The inclusion of the following projects or activities in an application will render the application ineligible and the application will be returned to the applicant:

• Planning and negotiating activities associated with the intent of a Tribe to enter the IHS Self-Governance Project. A separate grant program is administered by the IHS for this purpose. Prospective applicants interested in this program should contact Ms. Mary Trujillo, Office of Tribal Self-Governance, Indian Health Service, Reyes Building, 801 Thompson Avenue, Suite 240, Rockville, Maryland 20852, (301) 443-7821, and request information concerning the “Tribal Self-Governance Program Planning Cooperative Agreement Announcement” or the “Negotiation Cooperative Agreement Announcement.”

• Projects related to water, sanitation, and waste management.

• Projects that include long-term care or provision of any direct services.

• Projects that include tuition, fees, or stipends for certification or training of staff to provide direct services.

• Projects that include pre-planning, design, and planning of construction for facilities, including activities relating to Program Justification Documents.

• Projects that propose more than one project type. Please see Section II, “Award Information”, specifically “Eligible Project Types, Maximum Funding and Project Periods” for more information. An example of a proposal with more than one project type that would be considered ineligible may include the creation of a strategic health plan (defined by TMG as a planning project type) and improving third-party billing structures (defined by TMG as a health management structure project type).

E. Other Limitations—A current TMG recipient cannot be awarded a new, renewal, or competing continuation grant for any of the following reasons:

• A grantee may not administer two TMGs at the same time or have overlapping project/budget periods;

• The current project is not progressing in a satisfactory manner; or

• The current project is not in compliance with program and financial reporting requirements.

Delinquent Federal Debts: No award shall be made to an applicant who has an outstanding delinquent Federal debt until either:

• The delinquent account is paid in full; or

• A negotiated repayment schedule is established and at least one payment is received.

6. Other Submission Requirements

Electronic Transmission—The preferred method for receipt of applications is electronic submission through Grants.gov. However, should any technical problems arise regarding this submission, please contact Grants.gov Customer Support at 1-800-518-4726 or support@grants.gov. The Contact Center hours of operation are Monday-Friday from 7 a.m. to 9 p.m. (Eastern Standard Time). If you require additional assistance please contact IHS Grants Policy Staff at (301) 443-6528 at least fifteen days prior to the application deadline. To submit an application electronically, please use the http://www.Grants.gov apply site. Download a copy of the application package on the Grants.gov Web site, complete it offline and then upload and submit the application via the Grants.gov site. You may not e-mail an electronic copy of a grant application to us.

Please be reminded:

• Under the new IHS requirements, paper applications are not the preferred method. However if you have technical problems submitting your application on-line, please contac Grants.gov Customer Support at http://www.Grants.gov/CustomerSupport. If you are still unable to successfully submit your application on-line, please contact Grants Policy Staff fifteen days prior to the application deadline and advise them of the difficulties you are having submitting your application on-line. At that time, it will be determined whether you may submit a paper application. At that point you have to download the application package from Grants.gov and send it directly to the Division of Grants Operations, 801 Thompson Avenue, TMP 360, Rockville, MD 20852. Applications must be received by IHS by 5 p.m. Eastern Time on the due date, Friday, August 4, 2006.

• When you enter the Grants.gov site, you will find information about submitting an application electronically through the site, as well as the hours of operation. We strongly recommend that you do not wait until the deadline date to begin the application process through Grants.gov.

• To use Grants.gov, you, as the applicant, must have a DUNS Number and register in the Central Contractor Registry (CCR). You should allow a minimum of ten (10) days to complete CCR registration. See below on how to apply.

• You must submit all documents electronically, including all information typically included on the SF-424 and all necessary assurances and certifications.

• Please use the attachment feature in Grants.gov to attach additional documentation that may be presented by IHS.

• If tribal resolutions are required, please fax it to the Grants Management Specialist identified in this announcement.

• Your application must comply with my page limitation requirements described in the program announcement.

• After you electronically submit your application, you will receive an automatic acknowledgement from Grants.gov that contains a Grants.gov tracking number. IHS will retrieve your application from Grants.gov.

• You may access the electronic application for this program on http://www.Grants.gov.

• You must search for the downloadable application package by CFDA number 93.228.

• To receive an application package, the applicant must provide the Funding Announcement Number: HHS-2007-IHS-TMP-0001.

E-mail applications will not be accepted under this announcement.

DUNS Number

Applications are required to have a Dun and Bradstreet (DUNS) number to apply for a grant or cooperative agreement from the Federal Government. The DUNS number is a nine-digit identification number which uniquely identifies business entities. Obtaining a DUNS number is easy and there is no charge. To obtain a DUNS number, access http://www.dunandbradstreet.com or call 1-866-705-5711. Interested parties may wish to obtain their DUNS number by phone to expedite the process.

Applicants submitting applications electronically must also be registered with the Central Contractor Registry (CCR). A DUNS number is required before CCR registration can be completed. Many organizations may already have a DUNS number. Please use the number listed above to investigate whether or not your organization has a DUNS number. Registration with CCR is free of charge. Applicants may register by calling 1-888-227-2423. Please review and complete the CCR “Registration Worksheet” located on http://www.Grants.gov/CCRRegister.

More detailed information regarding these registration processes can be found at http://www.Grants.gov.

V. Application Review Information

The instructions for preparing the application narrative also constitute the evaluation criteria for reviewing and scoring the application. Weights assigned to each section are noted in parentheses. The 14-page narrative should include only the first year of activities; information for multi-year projects should be included as an appendix. See “Multi-Year Project Requirements” at the end of this section for more information.

1. Criteria

Introduction and Need for Assistance (20 Points)

A. Describe the Tribe's/Tribal organization's current health operation. Include what programs and services are currently provided (i.e, Federally funded, State funded, etc.), information regarding technologies currently used (i.e., hardware, software, services, etc.), and identify the source(s) of technical support for those technologies (i.e., Tribal staff, Area Office, vendor, etc.). Include information regarding whether the Tribe/Tribal organization has a health department and/or health board and how long it has been operating.

B. Describe the population to be served by the proposed project. Include a description of the number of IHS eligible beneficiaries who currently use services.

C. Describe the geographic location of the proposed project including any geographic barriers to the health care users in the area to be served.

D. Identify all TMGs received since FY 2002, dates of funding and summary of project accomplishments. State how previous TMG funds facilitated the progression of health development relative to the current proposed project. (Copies of reports will not be accepted.)

E. Identify the eligible project type and priority group of the applicant.

F. Explain the reason for your proposed project by identifying specific gaps or weaknesses in services or infrastructure that will be addressed by the proposed project, Explain how these gaps/weaknesses were discovered. If the proposed project includes information technology (i.e., hardware, software, etc.), provide further information regarding measures taken or to be taken that ensure the proposed project will not create other gaps in services or infrastructure (i.e., IHS interface capability, Government Performance and Results Act reporting requirements, contract reporting requirements, Information Technology (IT) compatibility, etc.).

G. Describe the effect of the proposed project on current programs (i.e., Federally funded, State funded, etc.) and, if applicable, on current equipment (i.e., hardware, software, services, etc.). Include the effect of the proposed project on planned/anticipated programs and/or equipment.

H. Address how the proposed project relates to the purpose of the TMG Program by addressing the appropriate description that follows:

• Identify if the Tribe/Tribal organization is an IHS Title I contractor. Address if the self-determination contract is a master contract of several programs or if individual contracts are used for each program. Include information regarding whether or not the Tribe participates in a consortium contract (i.e., more than one Tribe participating in a contract). Address what programs are currently provided through those contracts and how the proposed project will enhance the organization's capacity to manage the contracts currently in place.

• Identify if the Tribe/Tribal organization in an IHS Title V compactor. Address when the Tribe/Tribal organization entered into the compact and how the proposed project will further enhance the organization's management capabilities. Identify if the Tribe/Tribal organization is not a Title I or Title V organization. Address how the proposed project will enhance the organization's management capabilities, what programs and services the organization is currently seeking to contract and an anticipated date for contract.

Project Objective(s), Workplan and Consultants (40 Points)

A. Identify the proposed project objective(s) addressing the following:

• Measurable and (if applicable) quantifiable

• Results oriented

• Time-limited

Example: The Tribe will increase the number of bills processed by 15% by installing new software by the end of 12 months.

B. Address how the proposed project will result in change or improvement in program operations or processes for each proposed project objective. Also address what tangible products are expected from the project (i.e., policies and procedures manual, health plan, etc.).

C. Address the extent to which the proposed project will build the local capacity to provide, improve, or expand services that address the need(s) of the target population.

D. Submit a workplan in the appendix which includes the following information;

• Provide the action steps on a timeline for accomplishing the proposed project objective(s).

• Identify who will perform the action steps.

• Identify who will supervise the action steps taken.

• Identify who will accept and/or approve work products at the end of the proposed project.

• Include any training that will take place during the proposed project and who will be attending the training.

• Include evaluation activities planned.

E. If consultants or contractors will be used during the proposed project, please include the following information in their scope of work (or note if consultants/contractors will not be used):

• Educational requirements.

• Desired qualifications and work experience.

• Expected work products to be delivered on a timeline.

If a potential consultant/contractor has already been identified, please include a resume in the appendix.

F. Describe what updates (i.e., revision of policies/procedures, upgrades, technical support, etc.) will be required for the continued success of the proposed project. Include when these updates are anticipated and where funds will come from to conduct the update and/or maintenance.

Project Evaluation (15 Points)

Each proposed project objective should have an evaluation component and the evaluation activities would appear on the work plan.

A. Please address the following for each of proposed objective:

• What data will be collected to evaluate the success of the objective(s).

• How and when the data will be collected.

• Who will collect the data.

B. Explain how the data demonstrates the change brought about by the proposed project objective.

C. Describe any future evaluation efforts for the proposed project that will be conducted after the expiration of the grant.

Organizational Capabilities and Qualifications (15 Points)

A. Describe the organizational structure of the Tribe/Tribal organization beyond health care activities.

B. Provide information regarding plans to obtain management systems if the Tribe/Tribal organization does not have an established management system current in place that complies with 25 CFR part 900, subpart F, “Standards for Tribal Management Systems”. If management systems are already in place, simply note it. (A copy of the 25 CFR part 900, subpart F, is available in the TMG application kit.)

C. Describe the ability of the organization to manage the proposed project. Include information regarding similarly sized projects in scope and financial assistance as well as other grants and projects successfully completed.

D. Describe what equipment (i.e., fax machine, phone, computer, etc.) and facility space (i.e., office space) will be available for use during the proposed project. Include information about any equipment not currently available that will be purchased through the grant.

E. List key personnel who will work on the project. Include title used in the workplan. In the appendix, include position descriptions and resumes for all key personnel. Position descriptions should clearly describe each position and duties, indicating desired qualifications and experience requirements related to the proposed project. Resumes must indicate that the proposed staff member is qualified to carry out the proposed project activities. If a position is to be filled, indicate that information on the proposed position description.

F. If the project requires additional personnel (i.e., IT support, etc.), address how the Tribe/Tribal organization will sustain the position(s) after the grant expires. (If there is no need for additional personnel, simply note it.)

Categorical Budget and Budget Justification (10 Points)

A. Provide a categorical budget for each of the 12-month budget periods requested.

B. If indirect costs are claimed, indicate and apply the current negotiated rate to the budget. Include a copy of the rate agreement in the appendix.

C. Provide a narrative justification explaining why each line item is necessary/relevant to the proposed project. Include sufficient costs and other details to facilitate the determination of cost availability (i.e., equipment specifications, etc.).

Multi-Year Project Requirements

Projects requiring a second and/or third year must include a narrative addressing the second and/or third year's project objectives, evaluation components, work plan, categorical budget and budget justification.

Appendix Items

A. Work plan for proposed objectives.

B. Position descriptions for key staff.

C. Resumes of key staff that reflect current duties.

D. Consultant proposed scope of work (if applicable).

E. Indirect Cost Agreement.

F. Organizational chart (optional).

G. Mult-Year Project Requirements (if applicable).

2. Review and Selection Process

In addition to the above criteria/requirements, applications are considered according to the following:

A. Application Submission (Application Deadline: August 4, 2006)

Applications received in advance of or by the deadline and verified by the tracking number will undergo a preliminary review to determine that:

• The applicant and proposed project type is eligible in accordance with this grant announcement;

• The application is not a duplication of a previously funded project; and

• The application narrative, forms, and materials submitted meet the requirements of the announcement allowing the review panel to undertake an in-depth evaluation; otherwise the application may be returned.

B. Competitive Review of Eligible Applications (Objective Review: October 2-6, 2006)

Applications meeting eligibility requirements that are complete, responsive and conform to this program announcement will be reviewed for merit by the Ad Hoc Objective Review Committee (ORC) appointed by the IHS to review and make recommendations on these applications. The review will be conducted in accordance with the IHS Objective Review Guidelines. The technical review process ensures selection of quality projects in a national competition for limited funding. Applications will be evaluated and rated on the basis of the evaluation criteria listed in section V.1. The criteria are used to evaluate the quality of a proposed project, determine the likelihood of success and assign a numerical score to each application. The scoring of approved applications will assist the IHS in determining which proposals will be funded if the amount of TMG funding is not sufficient to support all approved applications. Applications recommended for approval, having a score of 60 or above by the ORC and scored high enough to be considered for funding will be reviewed by the Division of Grant Operations for cost analysis and further recommendation. The program official accepts the Division of Grant Operations' recommendations for consideration when funding applications. The program official forwards the final approved list to the Director, Office of Tribal Programs, for final review and approval. Applications scoring below 60 points will be disapproved and returned to the applicant. Applications that are approved but not funded will not be carried over into the next cycle for funding consideration.

3. Anticipated Announcement and Award Dates

The IHS anticipates the earliest award start date will be January 1, 2007.

VI. Award Administration Information

1. Award Notices

ORC Results Notification; November 13, 2006.

The Director, Office of Tribal Programs, or program official, will notify the contact person identified on each proposal of the results in writing via postal mail. Applicants whose applications are declared ineligible will receive written notification of the ineligibility determination and their grant application via postal mail. The ineligible notification will include information regarding the rationale for the ineligible decision citing specific information from the original grant application. Applicants who are approved but unfunded and disapproved will receive a copy of the Executive Summary which identifies the weaknesses and strengths of the application submitted. Applicants which are approved and funded will be notified through the official Federal Financial Assistance (FAA) document. The FAA will be signed by the Grants Management Officer and is the authorizing document for notifying grant recipients of funding. The FAA serves as the official notification of a grant award and will state the amount of Federal funds awarded, the purpose of the grant, the terms and conditions of the grant award, the effective date of the award, the project period and the budget period. Any other correspondence announcing to the Applicant's Project Director that an application was recommended for approval is not an authorization to begin performance. Pre-award costs are not allowable charges under this program grant.

2. Administrative Requirements

Grants are administered in accordance with the following documents:

• This grant announcement.

• Health and Human Services regulations governing Public Law 93-638 grants at 42 CFR 36.101 et seq.

• 45 CFR part 92, “Department of Health and Human Services, Uniform Administrative Requirements for Grants and Cooperative Agreements to State and Local Governments Including Indian Tribes,” or 45 CFR part 74, “Administration of Grants to Non-Profit Recipients”.

• Public Health Service Grants Policy Statement.

• Appropriate Cost Principles: OMB Circular A-87, “State and Local Governments,” or OMB Circular A-122, “Non-profit Organizations”.

• OMB Circular A-133, “Audits of States, Local Governments and Non-Profit Organizations”.

• Other Applicable OMB circulars.

3. Reporting

A. Progress Report—Program progress reports are required semi-annually. These reports will include a brief comparison of actual accomplishments to the goals established for the period, reasons for slippage (if applicable), and other pertinent information as required. A final report must be submitted within 90 days of expiration of the budget/project period.

B. Financial Status Report—Semi-annual financial status reports must be submitted within 30 days of the end of the half year. Final financial status reports are due within 90 days of expiration of the budget/project period. The Standard Form 269 (SF-269) (long form) can be downloaded from http://www.whitehouse.gov/omb/grants/sf269.pdg for financial reporting.

C. Reports—Grantees are responsible and accountable for accurate reporting of the Progress Reports and Financial Status Reports which are generally due semi-annually. Financial Status Reports (SF-269) are due 90 days after each budget period and the final SF-269 must be verified from the grantee records on how the value was derived. Grantees must submit reports in a reasonable period of time.

Failure to submit required reports within the time allowed may result in suspension or termination of an active grant, withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

VII. Agency Contact(s)

Interested parties may obtain TMG programmatic information from the TMG Program Coordinator through the information listed under section IV of this program announcement. Grant-related and business management information may be obtained from the Grants Management Specialist through the information listed under section IV of this program announcement. Please note that the telephone numbers provided are not toll-free.

VIII. Other Information

The IHS will have three training sessions to assist applicants in preparing their FY 2007 TMG application. There will be one 5-day training session and two 2-day training sessions. The 5-day training session will provide participants with basic grant writing skills, information regarding where to search for funding opportunities, and the opportunity to begin writing a TMG grant proposal. The 2-day training sessions will focus specifically on the TMG requirements providing participants with information contained in this announcement, clarifying any issues/questions applicants may have and critiquing project ideas. In an effort to make the 2-day training sessions productive, participants are expected to bring draft proposals to these meetings.

Priority will be given to groups eligible to apply for the TMG Program. Participation is limited to two personnel from each Tribe or Tribal organization. All sessions are first come-first serve with the above limitations noted. All participants are responsible for making and paying for their own travel arrangements. Interested parties should register with the TMG staff prior to making travel arrangements to ensure space is available in selected session. There is no registration fee to attend the training session(s). The registration form may be obtained from the TMG Web site at: http://www.ihs.gov/NonMedicalPrograms/tmg. The registration form may be faxed to (301) 443-4666. The training dates are listed below in chronological order and the training sessions will take place in the hotel identified:

• May 10-11, 2006—Albuquerque, New Mexico (Limit 25). Training Registration and Hotel Reservation deadline: April 21, 2006. Sheraton Albuquerque Uptown Hotel, 2600 Louisiana Boulevard, NE., Albuquerque, NM 87110. 1-800-252-7772; please request IHS Tribal Management Grant room block. Hotel rate: $66.00 plus tax.

• May 22-26, 2006—Rapid City, South Dakota (Limit 25). Training Registration and Hotel Reservation deadline: May 1, 2006. Ramada Inn Rapid City, 1721 Lacrosse Street, Rapid City, SD 57701. 1-866-742-1300 or 605-342-1300; please request IHS Tribal Management Grant room block. Hotel rate: $59.00 plus tax.

• June 14-15, 2006—Oklahoma City, Oklahoma (Limit 25). Training Registration and Hotel Reservation deadline: May 30, 2006. Best Western Saddleback Inn, 4300 Southwest Third Street, Oklahoma City, OK 73108. 1-800-228-3903 or 405-947-7000, extension 3123; please request IHS Tribal Management Grant room block. Hotel rate: $67.00 plus tax.

The Public Health Service (PHS) strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the HHS mission to protect and advance the physical and mental health of the American people.

Dated: May 2, 2006.
Robert G. McSwain,
Deputy Director, Indian Health Service.

[FR Doc. 06-4292 Filed 5-8-06; 8:45 am]

BILLING CODE 4165-16-M